DEPARTMENT OF STATE

[Public Notice No. 3219]

Shipping Coordinating Committee International Maritime Organization (IMO) Legal Committee; Notice of Meeting

The U.S. Shipping Coordinating Committee (SHC) will conduct an open meeting at 10:00 a.m. on Tuesday, March 14, 2000, in Room 2415 at U.S. Coast Guard Headquarters, 2100 Second Street, SW., Washington, DC. The purpose of this meeting is to prepare for the Eighty-first Session of the International Maritime Organization Legal Committee (LEG 81) to be held in London from 27-31 March, 2000.

During LEG 81, the Legal Committee will complete the preparation of the draft bunkers convention for a diplomatic conference, which will be held in the 2000-2001 biennium. The Legal Committee will then continue work on a draft protocol to the Athens Convention and on the draft Wreck Removal Convention. The committee will next turn its attention to the implementation of the HNS Convention, and time will also be allotted to address any other issues on the Legal Committee's work program on which there are questions or comments.

Members of the public are invited to attend the SHC meeting, up to the seating capacity of the room. For further information, or to submit views in advance of the meeting, please contact Captain Malcolm J. Williams, Jr., or Lieutenant Daniel J. Goettle, Coast Guard, Office of Maritime and International Law (G-LMI), 2100 Second Street, SW., Washington, DC 20593-0001; telephone (202) 267-1527; fax (202) 267-4496.

Dated: February 16, 2000.
Stephen M. Miller,
Executive Secretary, Shipping Coordinating Committee, Department of State.

[FR Doc. 00-4247 Filed 2-22-00; 8:45 am]

BILLING CODE 4710-07-U